DEPARTMENT OF COMMERCE

National Oceanic and Atmospheric Administration

Agency Information Collection Activities; Submission to the Office of Management and Budget (OMB) for Review and Approval; Comment Request; Pacific Coast Groundfish; Salmon Bycatch Minimization Information Collection

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 24, 2023.

ADDRESSES: Interested persons are invited to submit written comments to Adrienne Thomas, NOAA PRA Officer, at NOAA.PRA@noaa.gov. Please reference OMB Control Number 0648-0794 in the subject line of your comments. Do not submit Confidential Business Information or otherwise sensitive or protected information.

FOR FURTHER INFORMATION CONTACT: Requests for additional information or specific questions related to collection activities should be directed to Keeley Kent, Groundfish Branch Chief, National Marine Fisheries Service (NMFS), 7600 Sand Point Way NE, Bldg. 1, Seattle, WA 98115-6349, (206) 247-8252, keeley.kent@noaa.gov.

SUPPLEMENTARY INFORMATION:

I. Abstract

This request is for extension of a currently approved information collection.

On February 23, 2021, NMFS published in the Federal Register a final rule (86 FR 10857) allowing a Pacific whiting sector cooperative or group of vessels to develop a Salmon Mitigation Plan (SMP) to promote reduction in Chinook salmon bycatch. The SMP is a voluntary agreement by a Pacific whiting fishery Mothership (MS), Catcher/processor (C/P), or Pacific whiting individual fishing quota (IFQ) fishery group to manage Chinook salmon bycatch. The SMP would be approved by NMFS. Those groups with an approved SMP would be required to provide an annual postseason report to the Council and NMFS no later than March 31. The report would describe the group's use of Chinook salmon bycatch avoidance measures and an evaluation of the effectiveness of those measures. It would also describe any amendments to the terms of the SMP that were approved by NMFS during the fishing year in which the SMP was approved and the reasons that the amendments to the SMP were made. The rule also established that vessels with a NMFS-approved SMP have access to the Chinook salmon bycatch reserve regardless of NMFS implementing other inseason measures to minimize salmon bycatch. Participation in an SMP is voluntary; however, any vessel that chooses not to participate in an SMP would be subject to additional salmon bycatch minimization measures prior to being allowed access to the reserve. The associated regulations are found at 50 CFR part 660. OMB approved the collection-of-information requirements contained in the final rule on March 10, 2021, under OMB Control Number 0648-0794 (Pacific Coast Groundfish Salmon Bycatch Minimization).

II. Method of Collection

The designated SMP representative will have the option of submitting a proposed SMP and/or postseason SMP report to NMFS electronically or by mail.

III. Data

OMB Control Number: 0648-0794.

Form Number(s): None.

Type of Review: Regular submission, extension of a current information collection.

Affected Public: Business or other for-profit organizations; not-for-profit institutions.

Estimated Number of Respondents: 14.

Estimated Time per Response: SMP proposal (10 hours), SMP amendment (3 hours), Administrative appeals for disapproved SMP (6 hours), SMP postseason report (8 hours).

Estimated Total Annual Burden Hours: 113 burden hours.

Estimated Total Annual Cost to Public: $49.66.

Respondent's Obligation: Required to obtain or retain benefits.

Legal Authority: 50 CFR 660.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-20663 Filed 9-22-23; 8:45 am]

BILLING CODE 3510-22-P